DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for February 10-11, 2004, starting at 8:30 a.m. on February 10. Arrange for oral presentations by February 6.

ADDRESS: Boeing Facility, 1200 Wilson Boulevard, Room 234, Arlington, VA.

FOR FURTHER INFORMATION CONTACT: Effie Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held February 10-11 in Arlington, Virginia.

The agenda will include:

• Opening remarks

• FAA Report

• European Aviation Safety Agency/Joint Aviation Authorities Report

• Transport Canada Report

• Executive Committee Report

• Harmonization Management Team Report

• Legal Expectations for ARAC Recommendations

• Human Factors Harmonization Working Group (HWG) Report

• Ice Protection HWG Report

• Avionics HWG Report and Approval

• General Structures HWG Report

• Written reports, as required, from the following harmonization working groups: Engine, Electromagnetic Effects, Flight Test, Seat Test, Flight Control, Flight Guidance, System Design and Analysis, Electrical Systems, Loads and Dynamics, Design for Security, Powerplant Installation, and Mechanical Systems. The Airworthiness Assurance working group may also provide a report.

• Discussion of section 25.1309 phase 2 task

• Review of Action Items and 2004 Meeting Schedule

If all the agenda items are discussed on February 10, no meeting will be held on February 11.

Attendance is open to the public, but will be limited to the availability of meeting room space and telephone lines. Visitor badges are required to gain entrance to the Boeing building where the meeting is being held. For badging purposes, you will need to provide your name, company, and nationality by January 30 to Sharon Neuner, (703) 465-3680, sharon.c.neuner@boeing.com, or the person listed in the FOR FURTHER INFORMATION CONTACT section.

For persons participating domestically by telephone, the call-in number is (866) 442-8714; for persons participating internationally, the number is (281) 540-4931. The Passcode for both numbers is: 14169163063. Details are also available on the ARAC calendar at http://www.faa.gov/avr/arm/araccal/htm. To insure that sufficient telephone lines are available, please notify the person listed in the FOR FURTHER INFORMATION CONTACT section of your intent by February 6. Anyone participating by telephone will be responsible for paying long-distance charges.

The public must make arrangements by February 6 to present oral statements at the meeting. Written statements may be presented to the committee at any time by providing 25 copies to the person listed in the FOR FURTHER INFORMATION CONTACT section or by providing copies at the meeting. Copies of the documents to be presented to ARAC for decision or as recommendations to the FAA may be made available by contacting the person listed in the FOR FURTHER INFORMATION CONTACT section.

If you are in need of assistance or require a reasonable accommodation for the meeting or meeting documents, please contact the person listed in the FOR FURTHER INFORMATION CONTACT section. Sign and oral interpretation, as well as a listening device, can be made available if requested 10 calendar days before the meeting.

Issued in Washington, DC, on January 14 ,2004.
Tony F. Fazio,
Director, Office of Rulemaking.

[FR Doc. 04-1329 Filed 1-21-04; 8:45 am]

BILLING CODE 4910-13-P